NATIONAL CREDIT UNION ADMINISTRATION

Sunshine Act; Notice of Agency Meeting

TIME AND DATE: 10 a.m., Friday, January 29, 2010.

PLACE: Board Room, 7th Floor, Room 7047, 1775 Duke Street, Alexandria, VA 22314-3428.

STATUS: Open.

MATTERS TO BE CONSIDERED: 1. Withdrawal of Final Rule—Part 706 of NCUA's Rules and Regulations, Unfair or Deceptive Acts or Practices.

2. Insurance Fund Report.

RECESS: 11 a.m.

TIME AND DATE: 11:15 a.m., Friday, January 29, 2010.

PLACE: Board Room, 7th Floor, Room 7047, 1775 Duke Street, Alexandria, VA 22314-3428.

STATUS: Closed.

MATTERS TO BE CONSIDERED: 1. Consideration of Supervisory Activities. Closed pursuant to Exemptions (8), (9)(A)(ii) and 9(B).

2. Personnel (3). Closed pursuant to some or all of the following: Exemptions (2), (6) and (9)(A)(ii).

FOR FURTHER INFORMATION CONTACT: Mary Rupp, Secretary of the Board, Telephone: 703-518-6304.

Mary Rupp,
Board Secretary.

[FR Doc. 2010-1652 Filed 1-22-10; 4:15 pm]

BILLING CODE 7535-01-P